DEPARTMENT OF TRANSPORTATION

Office of the Secretary

Notice of Applications for Certificates of Public Convenience and Necessity and Foreign Air Carrier Permits Filed Under Subpart Q During the Week Ending November 3, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-8212.

Date Filed: October 30, 2000.

Due Date for Answers, Conforming Applications, or Motion to Modify Scope: November 20, 2000.

Description: Application of Venture Travel, LLC d/b/a Taquan Air (Venture) and Taquan Air Service, Inc. (TAS, Inc.), applies for a disclaimer of jurisdiction and transfer of the certificate of public convenience and necessity currently held by TAS, Inc.

Dorothy Y. Beard,
Federal Register Liaison.

[FR Doc. 00-29238 Filed 11-14-00; 8:45 am]

BILLING CODE 4910-62-P